DEPARTMENT OF DEFENSE

Department of the Navy

Notice of Intent To Grant Partially Exclusive Patent License; Dakota Technologies, Inc.

AGENCY: Department of the Navy, DoD.

ACTION: Notice.

SUMMARY: The Department of the Navy hereby gives notice of its intent to grant to Dakota Technologies, Inc., a revocable, nonassignable, partially exclusive license in the United States to practice the Government-Owned invention(s) described in U.S. Patent No. 6630947—Method for Examining Subsurface Environments.

DATES: Anyone wishing to object to the grant of this license must file written objections along with supporting evidence, if any, no later than March 11, 2011.

ADDRESSES: Written objections are to be filed with the Office of Research and Technology Applications Space and Naval Warfare Systems Center Pacific, Code 72120, 53560 Hull St., Bldg. A33 Room 2305, San Diego, CA 92152-5001.

FOR FURTHER INFORMATION CONTACT: Brian Suh, Office of Research and Technology Applications, Space and Naval Warfare Systems Center Pacific, Code 72120, 53560 Hull St., Bldg. A33 Room 2305, San Diego, CA 92152-5001, telephone 619-553-5118, E-Mail: brian.suh@navy.mil.

Authority: 35 U.S.C. 207, 37 CFR part 404.

Dated: February 16, 2011.
D.J. Werner,
Lieutenant Commander, Judge Advocate General's Corps, U.S. Navy, Federal Register Liaison Officer.

[FR Doc. 2011-4194 Filed 2-23-11; 8:45 am]

BILLING CODE 3810-FF-P